DEPARTMENT OF THE INTERIOR

Office of the Secretary

Statement of Findings: Gila River Indian Community Water Rights Settlement Act of 2004

AGENCY: Office of the Secretary, Interior.

ACTION: Notice of Statement of Findings in accordance with Title II of Public Law 108-451.

SUMMARY: The Secretary of the Interior is publishing this notice in accordance with section 207(c) of the Gila River Indian Community Water Rights Settlement Act of 2004 (Settlement Act), Public Law 108-451, 118 Stat. 3499, 3519-20. Congress enacted the Settlement Act as Title II of the Arizona Water Settlements Act (AWSA), Public Law 108-451, 118 Stat. 3478 et seq. The publication of this notice causes the waivers and releases of certain claims to become effective as required by the Settlement Act.

DATES: Effective Date: In accordance with section 207(b) of the Settlement Act, the waivers and releases of claims described in paragraphs (1) and (3) through (5) of section 207(a) and the remaining provisions of section 207 of the Settlement Act are effective on December 14, 2007.

FOR FURTHER INFORMATION CONTACT: Address all comments and requests for additional information to Deborah Saint, Chair, Arizona Water Settlements Act Implementation Team, Department of the Interior, Bureau of Reclamation, Lower Colorado Region, Native American Affairs Office, 400 N 5th Street, Suite 1470, Phoenix, AZ 85004. (602) 379-3199.

SUPPLEMENTARY INFORMATION: On February 4, 2003, the Gila River Indian Community (Community) and other parties entered into the Gila River Indian Community Water Rights Settlement Agreement (Gila River Agreement). The Gila River Agreement established the basis to resolve the Community’s water rights claims to the Gila River in Arizona. On December 10, 2004, Congress enacted the Settlement Act as Title II of AWSA and authorized, ratified, and confirmed the provisions of the Gila River Agreement except to the extent that any provision of the agreement conflicts with the Settlement Act.

The purposes of the Settlement Act are:

(1) To resolve permanently certain damage claims and all water rights claims among the United States on behalf of the Community, its members, and allottees, and the Community and its neighbors;

(2) To authorize, ratify, and confirm the Gila River Agreement;

(3) To authorize and direct the Secretary to execute and perform all obligations of the Secretary under the Gila River Agreement;

(4) To authorize the actions and appropriations necessary for the United States to meet its obligations under the Gila River Agreement and the Settlement Act; and

(5) To authorize and direct the Secretary to execute the New Mexico Consumptive Use and Forbearance Agreement to allow the Secretary to exercise the rights authorized by subsections (d) and (f) of section 304 of the Colorado River Basin Project Act (43 U.S.C. 1524).

In order for the waivers and releases set forth in the Gila River Agreement and Settlement Act to become fully effective and enforceable, the Secretary is required to make a statement of findings that certain conditions have been met.

Statement of Findings

In accordance with section 207(c) of the Settlement Act, I find as follows:

1. The Gila River Agreement has been revised through an amendment to eliminate any conflict with the Settlement Act and, as so revised, the Gila River Agreement has been executed by the Secretary and the Governor of the State of Arizona.

2. In accordance with subsections 104(a)(1)(A)(i) and (a)(2) of AWSA, 102,000 acre-feet of Central Arizona Project (CAP) agricultural priority water has been reallocated to the Community and up to 96,295 acre-feet of CAP agricultural priority water has been reallocated to the Arizona Department of Water Resources (ADWR) to be held under contract in trust for further allocation. This reallocation is memorialized through a decision published in the Federal Register on August 25, 2006, and the Arizona Water Settlement Agreement which prohibits direct use of the water by ADWR.

3. In accordance with subsection 104(b) of AWSA, 65,647 acre-feet of uncontracted CAP municipal and industrial water has been reallocated as memorialized in the Federal Register notice of August 25, 2006, and subcontracts for delivery have been offered. Amendments to all CAP contracts and subcontracts to include the requirements of subsection 104(d) have been offered.

4. In accordance with section 204 of the Settlement Act, the Secretary has reallocated and contracted with the Community for additional CAP entitlements of 18,600 acre-feet from the Roosevelt Water Conservation District; 18,100 acre-feet relinquished by the Harquahala Valley Irrigation District; and 102,000 acre-feet as provided in section 104 of AWSA.

5. The Community's CAP Water Delivery Contract has been amended in accordance with section 205 of the Settlement Act. The Secretary has executed leases of Community CAP water to Phelps Dodge and to the Cities of Goodyear, Peoria, Phoenix and Scottsdale, and has executed the Reclaimed Water Exchange Agreement.

6. The Secretary has established a program to repair and remediate subsidence damage and related damage in accordance with section 209(a) of the Settlement Act.

7. The parties have executed the Arizona Water Settlement Agreement, the “master agreement” authorized, ratified, and confirmed by section 106(a) of AWSA, and all conditions to its enforceability have been satisfied.

8. $53 million has been identified and retained in the Lower Colorado River Basin Development Fund for the benefit of the Community in accordance with section 107(b) of the Settlement Act.

9. Pursuant to paragraph 27.4 of the Gila River Agreement, the Arizona State legislature and the Governor of Arizona have determined that the appropriate and commensurate contribution from the State of Arizona is the State's recognition of the Community's interest in acquiring and placing into trust status a parcel located within the exterior boundaries of the Community's reservation and the State's willingness to cooperate in this effort, together with the firming of 15,000 acre-feet of non-Indian agricultural priority CAP water to the equivalent of municipal and industrial priority water.

10. Pursuant to subparagraph 16.9 of the Gila River Agreement, the Salt River Project has paid $500,000 to the Community.

11. The judgments and decrees attached to the Gila River Agreement as exhibits 25.18A (Gila River adjudication proceedings) and 25.18B (Globe Equity Decree proceedings) have been approved by the respective courts.

12. The dismissals attached to the Gila River Agreement as exhibits 25.17.1A and B, 25.17.2, and 25.17.3A and B have been filed with the respective courts and any necessary dismissal orders have been entered.

13. The State of Arizona has enacted legislation to implement the Southside Replenishment Program in accordance with subparagraph 5.3 of the Gila River Agreement; to authorize the firming program required by section 105 of AWSA; and to establish the Upper Gila River Watershed Maintenance Program in accordance with subparagraph 26.8.1 of the Gila River Agreement.

14. The State of Arizona, through the Arizona Water Banking Authority, has entered into an agreement with the Secretary to carry out the obligation of the State to firm CAP agricultural priority water to municipal and industrial priority water under section 105(b)(2)(A) of AWSA.

15. Final judgment has been entered in Central Arizona Water Conservation District v. United States (No. CIV 95-625-TUC-WDB (EHC), No. CIV 95-1720-PHX-EHC) (Consolidated Action) in accordance with the repayment stipulation in that case.

Dated: December 10, 2007.
Dirk Kempthorne,
Secretary of the Interior.

[FR Doc. E7-24257 Filed 12-13-07; 8:45 am]

BILLING CODE 4310-MN-P